DEPARTMENT OF THE INTERIOR

Bureau of Indian Affairs

Tribal Consultation on “No Child Left Behind Act”

AGENCY: Bureau of Indian Affairs, Interior.

ACTION: Notice of tribal consultation meetings.

SUMMARY: The Department of the Interior gives notice that the Bureau of Indian Affairs (BIA) will conduct regional consultation meetings to obtain oral and written comments prior to establishing a Negotiated Rulemaking Committee under the No Child Left Behind Act of 2001 for negotiation of proposed regulations under the Act. Tribal officials, parents, teachers, administrators, educators at Bureau schools, and school board members of tribes served by Bureau-funded schools are encouraged to attend the meetings and submit written comments.

DATES: The meeting dates are August 9, 2002 through September 9, 2002, for all locations listed. All meetings will begin at 9 a.m. and end at 6 p.m. (local time) or when all meeting participants have the opportunity to make comments. Comments are due on or before September 15, 2002.

ADDRESSES: Send or hand-deliver written comments to William Mehojah, Jr., Director, Office of Indian Education Programs, Bureau of Indian Affairs, MS 3512-MIB, 1849 C St., NW., Washington, DC 20240. Send facsimile submissions to (202) 273-0030.

FOR FURTHER INFORMATION CONTACT: Dalton Henry, Office of Indian Education Programs, Bureau of Indian Affairs, MS 3512-MIB, 1849 C St., NW., Washington, DC 20240. Telephone: (202) 208-5820.

SUPPLEMENTARY INFORMATION: The No Child Left Behind Act of 2001, Public Law 107-110, authorizes the Department to promulgate several regulations using negotiated rulemaking. The purpose of the regional consultation meetings is to allow tribal officials, parents, teachers, administrators, educators at Bureau schools, and school board members of tribes served by Bureau-funded schools to provide guidance to the Secretary on the content of the regulations. As part of providing guidance to the Secretary, the meetings are intended to identify interests and define issues for recommendations for negotiated rulemaking under the Act and under the Negotiated Rulemaking Act and the Federal Advisory Committee Act.

This consultation will cover six sections of the Act that provide for negotiated rulemaking regarding Bureau-funded schools. The Committee will develop recommendations for proposed regulations that will:

(1) Under Section 1124—establish separate geographic attendance areas for each Bureau-funded school;

(2) Under Section 1127—establish a formula for determining the minimum annual amount of funds necessary to fund each Bureau-funded school;

(3) Under Section 1130—establish a system for the direct funding and support of all Bureau-funded schools under the formula established under Section 1127;

(4) Under Section 1136—establish guidelines to ensure the constitutional and civil rights of Indian students regarding the right to privacy, freedom of religion and expression, and due process in connection with disciplinary actions (suspension and expulsion);

(5) Under Section 1043—establish a method for the administration of grants under the Tribally Controlled Schools Act of 1988, as amended by Section 1043; and

(6) Under Section 1116(g)—define “Adequate Yearly Progress” which is the essential measurement for determining that schools are providing quality education.

A third-party neutral facilitator will facilitate each consultation meeting. Interpreters will be available, as needed.

The results of this consultation will provide guidance to the negotiated rulemaking committee. The Committee, in its advisory capacity, will develop recommendations for the Secretary for proposed regulations to be published by June 2003.

Meeting Schedule
Dates | Location | Local contact | Phone No.
August 9, 2002 | Tuba City, AZ | Mike Luther | (928) 283-2218
August 12, 2002 | Shiprock, NM | Lester Hudson | (505) 368-3400
August 13, 2002 | Chinle, AZ | Beverly Crawford | (928) 674-5131
August 14, 2002 | Window Rock, AZ | Winnifred Peters | (928) 729-7251
August 15, 2002 | Ft. Wingate, NM | Bea Woodward | (505) 786-6150
August 16, 2002 | Albuquerque, NM | Ben Atencio | (505) 346-2431
August 19, 2002 | Bismarck, ND | Loretta Delong | (701) 477-3463
August 21, 2002 | Minneapolis, MN | Terry Portra | (612) 713-4400
August 23, 2002 | Pierre, SD | Norma Tibbitts Cherie Farlee | (605) 867-1306 (605) 964-8722
August 26, 2002 | Philadelphia, MS | LaVonna Weller | (202) 208-7952
August 28, 2002 | Phoenix, AZ | Joe Frazier | (520) 361-3510
August 30, 2002 | Portland, OR | John Reimer | (503) 872-2743
September 5, 2002 | Oklahoma City, OK | Joy Martin | (405) 605-6051
September 9, 2002 | Washington, DC | Ed Parisien Rod Young | (505) 248-6955 (202) 208-6175

Comments, including names, street addresses, and other contact information from commenters, will be available for public review at the address listed under the ADDRESSES section during regular business hours (7:45 a.m. to 4:15 p.m. EDT), Monday through Friday, except Federal holidays. If you do not want your name or address or other information available to the public, you must state this prominently at the beginning of your comment. We will honor your request to the extent allowable by law. We will make available for public inspection in their entirety all submissions from organizations or businesses, and from individuals identifying themselves as representatives or officials of organizations or businesses.

Dated: July 16, 2002.
Neal A. McCaleb,
Assistant Secretary-Indian Affairs.

[FR Doc. 02-18460 Filed 7-19-02; 8:45 am]

BILLING CODE 4310-6W-P